DEPARTMENT OF COMMERCE

Bureau of Industry and Security

Transportation and Related Equipment Technical Advisory Committee; Notice of Open Meeting

The Transportation and Related Equipment Technical Advisory Committee will meet on November 18, 2003, 9:30 a.m., at the Herbert C. Hoover Building, Room 3884, 14th Street between Pennsylvania and Constitution Avenues, NW., Washington, DC. The Committee advises the Office of the Assistant Secretary for Export Administration with respect to technical questions which affect the level of export controls applicable to transportation and related equipment or technology.

Agenda

1. Opening remarks and introductions.

2. Election of Chairman.

3. Review of Wassenaar Arrangement and Technical Working Group issues.

4. Review of Missile Technology Control Regime issues.

5. Update on Export Administration Regulations.

6. Update on status of US Munitions List.

7. Discussion of Commerce Control List entries needing review for revalidation or change proposals.

8. Presentation of papers and comments by the public.

The meeting will be open to the public and a limited number of seats will be available. Reservations are not accepted. To the extent time permits, members of the public may present oral statements to the Committee. Written statements may be submitted at any time before or after the meeting. However, to facilitate distribution of public presentation materials to Committee members, the Committee suggests that you forward your public presentation materials two weeks prior to the meeting to the following address: Ms. Lee Ann Carpenter, BIS/EA MS: 1099D, U.S. Department of Commerce, 14th and Constitution Avenue, NW., Washington, DC 20230.

For more information call Lee Ann Carpenter on (202) 482-2583.

Dated: October 27, 2003.
Lee Ann Carpenter,
Committee Liaison Officer.

[FR Doc. 03-27386 Filed 10-29-03; 8:45 am]

BILLING CODE 3510-JT-M